FEDERAL RESERVE SYSTEM

Agency information collection activities: Announcement of Board approval under delegated authority and submission to OMB

AGENCY: Board of Governors of the Federal Reserve System

SUMMARY: Background.

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer Michelle Long--Division of Research and Statistics, Board of Governors of the Federal Reserve System, Washington, DC 20551 (202-452-3829).

OMB Desk Officer Mark Menchik--Office of Information and Regulatory Affairs, Office of Management and Budget, New Executive Office Building, Room 10235, Washington, DC 20503, or e-mail to mmenchik@omb.eop.gov.

Final approval under OMB delegated authority of the extension for three years, without revision of the following reports:

1. Report title: Senior Loan Officer Opinion Survey on Bank Lending Practices.

Agency form number: FR 2018.

OMB control number: 7100-0058.

Frequency: Up to six times a year.

Reporters: Large U.S. commercial banks and large U.S. branches and agencies of foreign banks.

Annual reporting hours: 1,008 hours.

Estimated average hours per response: 2 hours.

Number of respondents: 84.

General description of report: This information collection is voluntary (12 U.S.C. §§ 248(a), 324, 335, 3101, 3102, and 3105) and is given confidential treatment (5 U.S.C. § 552 (b)(4)).

Abstract: The FR 2018 is conducted with a senior loan officer at each respondent bank, generally through a telephone interview. The purpose of the survey is to provide qualitative information with respect to current price and flow developments and evolving techniques and practices in the U.S. loan markets. Consequently, a significant portion of the questions in each survey consists of unique questions on topics of timely interest. The respondents' answers provide crucial information for monitoring and understanding the evolution of lending practices at banks and developments in credit markets.

2. Report title: Senior Financial Officer Survey.

Agency form number: FR 2023.

OMB control number: 7100-0223.

Frequency: Up to four times a year.

Reporters: Commercial banks, other depository institutions, corporations or large money-stock holders.

Annual reporting hours: 232 hours.

Estimated average hours per response: 1 hour.

Number of respondents: 58.

General description of report: This information collection is voluntary (U.S.C. §§ 225a, 248(a), and 263); confidentiality will be determined on a case-by-case basis.

Abstract: The 2023 requests qualitative and limited quantitative information about liability management, the provision of financial services, and the functioning of key financial markets from a selection of up to sixty large commercial banks (or, if appropriate, from other depository institutions or major financial market participants). Responses are obtained from a senior officer at each participating institution through a telephone interview conducted by Reserve Bank or Board staff. The survey does not have a fixed set of questions; each survey consists of a limited number of questions directed at topics of timely interest.

Final approval under OMB delegated authority of the extension for three years, with revision of the following reports:

1. Report titles: Quarterly Report of Interest Rates on Selected Direct Consumer Installment Loans and Quarterly Report of Credit Card Plans.

Agency form numbers: FR 2835 and FR 2835a.

OMB control number: 7100-0085.

Frequency: Quarterly.

Reporters: Commercial banks.

Annual reporting hours: FR 2835: 132 hours; and FR 2835a: 100 hours.

Estimated average hours per response: FR 2835: 13 minutes; and FR 2835a: 30 minutes

Number of respondents: FR 2835: 150; and FR 2835a: 50.

General description of report: These information collections are voluntary (12 U.S.C. 248(a)(2)). The FR 2835a individual respondent data are given confidential treatment.

Abstract: The FR 2835 collects information from a sample of commercial banks on interest rates charged on loans for new vehicles and loans for other consumer goods and personal expenses. The FR 2835a collects information on two measures of credit card interest rates from a sample of commercial banks with $1 billion or more in credit card receivables and a representative of smaller issuers.

Current Actions: The Federal Reserve will add a new data item, New automobiles (60-month), to the FR 2835. This item will collect the most common interest rate on 60-month loans for new automobiles. The Federal Reserve will also decrease the authorized sample size for the FR 2835a from 80 to 50 commercial banks.

The Federal Reserve received one general comment letter from a federal agency. The commenter described its use of the data to prepare monthly, quarterly, and annual estimates of personal interest payments, a component of personal outlays in the national income and product accounts. The revisions will be implemented as originally proposed.

Board of Governors of the Federal Reserve System, June 7, 2006.
Jennifer J. Johnson
Secretary of the Board.

[FR Doc. E6-9075 Filed 6-9-06; 8:45 am]

BILLING CODE 6210-01-S